ENVIRONMENTAL PROTECTION AGENCY

40 CFR Part 52

[EPA-R10-OAR-2018-0597; FRL-10005-17-Region 10]

Air Plan Approval; ID: Idaho Portion of the Logan UT-ID 2006 24-Hour PM2.5 Nonattainment Area; Moderate Plan Elements

AGENCY: Environmental Protection Agency (EPA).

ACTION: Final rule.

SUMMARY: The Environmental Protection Agency (EPA) is taking final action to approve revisions to the Idaho State Implementation Plan (SIP) submitted on July 31, 2018. The submission includes Reasonable Further Progress and Quantitative Milestone attainment plan elements, along with updated Motor Vehicle Emissions Budgets, for the Idaho portion of the Logan, Utah-Idaho fine particulate matter (PM2.5) nonattainment area (Logan UT-ID area). The EPA's prior conditional approval for these elements will be removed and these elements are now fully approved.

DATES: The final rule is effective March 23, 2020.

ADDRESSES: The EPA has established a docket for this action under Docket ID No. EPA-R10-OAR-2018-0597, at https://www.regulations.gov. All documents in the docket are listed on the https://www.regulations.gov website. Although listed in the index, some information may not be publicly available, i.e., Confidential Business Information or other information the disclosure of which is restricted by statute. Certain other material, such as copyrighted material, is not placed on the internet and is publicly available only in hard copy form. Publicly available docket materials are available at https://www.regulations.gov or at EPA Region 10, Office of Air and Waste, 1200 Sixth Avenue, Seattle, Washington 98101. The EPA requests that you contact the person listed in the FOR FURTHER INFORMATION CONTACT section to schedule your inspection. The Regional Office's official hours of business are Monday through Friday, 8:30 to 4:30, excluding Federal holidays.

FOR FURTHER INFORMATION CONTACT: Matthew Jentgen, (206) 553-0340, jentgen.matthew@epa.gov.

SUPPLEMENTARY INFORMATION: Throughout this document whenever “we,” “us,” or “our” is used, it is intended to refer to the EPA.

Table of Contents

I. Background

II. Final Action

III. Statutory and Executive Order Reviews

I. Background

On December 14, 2012 and December 24, 2014, the Idaho Department of Environmental Quality (IDEQ) submitted attainment plan elements designed to attain the 2006 24-hour PM2.5 National Ambient Air Quality Standards (NAAQS) in the Idaho portion of the Logan UT-ID area. On January 4, 2017, the EPA approved Idaho's control measures as meeting Reasonably Available Control Measures/Technology (RACM/RACT), disapproved the attainment plan submission for contingency measures, and deferred action on the attainment demonstration, Reasonable Further Progress (RFP), Quantitative Milestone (QM), and Motor Vehicle Emissions Budgets (MVEB) requirements (82 FR 729). Following our January 4, 2017, action, in an April 25, 2017 letter, Idaho committed to further address the RFP, QM, and MVEB requirements by August 1, 2018. Because Idaho committed to address these requirements within one year, in specific ways that the EPA considered appropriate, the EPA conditionally approved the RFP, QM, and MVEB elements of the Idaho attainment plan on August 8, 2017 (82 FR 37025). In that same action, we also finalized approval of the Idaho attainment demonstration and the 2014 MVEBs as early progress budgets. Based on quality-assured, quality-controlled data for the period 2015-2017 showing that the area attained the 2006 24-hour PM2.5 NAAQS, on October 19, 2018, the EPA finalized a determination of attainment by the attainment date and clean data determination for the Logan UT-ID area (83 FR 52983).

On July 31, 2018, Idaho submitted a SIP revision to further address the RFP, QM, and MVEB elements that the EPA conditionally approved on August 8, 2017 (Cache SIP Amendment or submission). The submission can be found in the docket for this action. On October 15, 2019, the EPA proposed to approve the RFP and QM elements and revised MVEBs in this submission as meeting the requirements of the CAA and the EPA's implementing regulations (84 FR 55100). Please see our proposed rulemaking for further explanation and the basis for our finding. The public comment period for this proposal ended on November 14, 2019. No comments were submitted.

II. Final Action

The EPA is approving the RFP and QM elements and revised MVEBs in the Cache SIP Amendment. In taking this final action, the EPA's prior conditional approval is removed, and these elements are now fully approved.

III. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve state choices, provided that they meet the criteria of the Clean Air Act. Accordingly, this action merely approves State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications and it will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 20, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Lead, Nitrogen dioxide, Ozone, Particulate matter, Reporting and recordkeeping requirements, Sulfur oxides, Volatile organic compounds.

Authority: 42 U.S.C. 7401 et seq.

Dated: January 28, 2020.
Chris Hladick,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart N—Idaho

2. In § 52.670, amend the table in paragraph (e), under the heading “Chapter VIII—Nonattainment Area Plans,” by removing the two entries entitled “Fine Particulate Matter Attainment Plan” and adding an entry at the end of the table entitled “Cache Valley Fine Particulate Matter Attainment Plan” to read as follows:

§ 52.670 Identification of plan.

* * * * *

(e) * * *

EPA-Approved Idaho Non-Regulatory Provisions and Quasi-Regulatory Measures
Name of SIP provision | Applicable geographic or nonattainment area | State submittal date | EPA approval date | Comments
* * * * * * *
Cache Valley Fine Particulate Matter Attainment Plan | Franklin County, Logan UT-ID PM2.5 Nonattainment Area | 12/19/2012, 12/24/2014, 7/31/2018 | 1/4/2017, 82 FR 729; 8/8/2017, 82 FR 37025; 2/20/2020, [Insert Federal Register citation]

[FR Doc. 2020-02744 Filed 2-19-20; 8:45 am]

BILLING CODE 6560-50-P